SMALL BUSINESS ADMINISTRATION

[Declaration of Disaster #3509]

Territory of American Samoa

As a result of the President's major disaster declaration on June 6, 2003, I find that the Island of Tutuila located within the Territory Of American Samoa constitutes a disaster area due to damages caused by heavy rainfall, flooding, landslides, and mudslides occurring on May 19, 2003 and continuing through May 21, 2003. Applications for loans for physical damage as a result of this disaster may be filed until the close of business on August 5, 2003 and for economic injury until the close of business on March 8, 2004 at the address listed below or other locally announced locations: U.S. Small Business Administration, Disaster Area 4 Office, P.O. Box 13795, Sacramento, CA 95853-4795.

The interest rates are:

| Percent
For Physical Damage
Homeowners with credit available elsewhere | 5.625
Homeowners without credit available elsewhere | 2.812
Businesses with credit available elsewhere | 5.906
Businesses and non-profit organizations without credit available elsewhere | 2.953
Others (including non-profit organizations) with credit available elsewhere | 5.500
For Economic Injury
Businesses and Small Agricultural Cooperatives without credit available elsewhere | 2.953

The number assigned to this disaster for physical damage is 350906 and for economic injury the number is 9V8000.

(Catalog of Federal Domestic Assistance Program Nos. 59002 and 59008).
Dated: June 9, 2003.
Cheri C. Wolff,
Acting Associate Administrator for Disaster Assistance.

[FR Doc. 03-15233 Filed 6-16-03; 8:45 am]

BILLING CODE 8025-01-P